FEDERAL COMMUNICATIONS COMMISSION

47 CFR Part 73

[ET Docket No. 05-182; FCC 05-94]

Technical Standards for Satellite-Delivered Network Signals

AGENCY: Federal Communications Commission.

ACTION: Proposed rule; Notice of inquiry.

SUMMARY: This document begins an inquiry into the adequacy of the digital signal strength standard and testing procedures used to determine whether households are eligible to receive distant broadcast digital television (DTV) network signals from satellite communications providers. We request comment and information on whether the existing statutes and/or regulations concerning the digital television signal strength standard and testing procedures as used for identifying if households are unserved by local network TV signals for purposes of determining eligibility to receive distant signals from satellite services need to be revised.

DATES: Comments must be filed on or before June 17, 2005, and reply comments must be filed on or before July 5, 2005.

ADDRESSES: You may submit comments, identified by (ET Docket No. 05-182) by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: David Sturdivant, Office of Engineering and Technology, (202) 418-1227, e-mail: David.Sturdivant@fcc.gov, TTY (202) 418-2989.

SUPPLEMENTARY INFORMATION: This is a summary of the Commission's Notice of Inquiry (NOI), ET Docket No. 05-182, FCC 05-94, adopted April 29, 2005, and released May 3, 2005. The full text of this document is available for inspection and copying during normal business hours in the FCC Reference Center (Room CY-A257), 445 12th Street, SW., Washington, DC 20554. The complete text of this document also may be purchased from the Commission's copy contractor, Best Copy and Printing, Inc. (BCPI), 445 12th Street, SW., Room CY-B402, Washington, DC 20554. The full text may also be downloaded at: http://www.fcc.gov. Alternate formats are available to persons with disabilities at TTY (202) 418-7365.

Pursuant to §§ 1.415 and 1.419 of the Commission's rules, 47 CFR 1.415, 1.419, interested parties may file comments on or before June 17, 2005, and reply comments on or before July 5, 2005. Comments may be filed using the Commission's Electronic Comment Filing System (ECFS) or by filing paper copies. See Electronic Filing of Documents in Rulemaking Proceedings, 63 FR 24121, May 1, 1998. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number.

All filings must be addressed to the Commission's Secretary, Office of the Secretary, Federal Communications Commission. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express mail, and Priority Mail should be addressed to 445 12th Street, SW., Washington, DC 20554.

Summary of Notice of Inquiry

1. In accordance with The Satellite Home Viewer Extension and Reauthorization Act of 2004 (SHVERA) (Pub. L. 108-447, section 207, 118 Stat. 2809, 3393 (2004) (to be codified at 47 U.S.C. 325), 204(b)) the Commission requests comment and information to assist us in determining if existing statutes and/or regulations that establish a television signal strength standard for identifying households that are unserved by local network TV signals are adequate for use in identifying household unserved by digital television broadcast signals (DTV). Households that are unserved by a local broadcast television station are eligible to receive distant network signals from satellite services. The Commission also requests comment on whether statutes and regulations need to be revised to take into account the types of antennas and receiving equipment that are available to consumers for reception of digital television signals. The record obtained through this inquiry will be used to prepare a report to Congress describing the results of this study and any changes that should be made to the applicable Federal statutes or regulations.

2. This Inquiry will review current regulations that identify households that are unserved by a local analog broadcast television stations in order to determine if the regulations may be accurately applied to local digital broadcast stations for the same purpose. The Commission has been directed by SHVERA to review six specific factors related to determining if a household will be classified as unserved concerning the reception of digital television signals.

3. We are requesting relevant technical information to determine if a new standard should account for the fact that an antenna can be mounted on a roof or placed in a home and whether the antenna will be placed in a fixed mounting or be capable of rotating. Information about the cost and the ease of deployment as well as the effects of the use of a rotor with the antenna should be included with comments.

4. We will consider whether 47 CFR 73.686(d) should be amended to create different procedures for determining the requisite digital signal strength at a location. Portions of § 73.686(d) require an individual conducting measurement of the television signal available in a specific location to utilize characteristics of an analog television signal to complete the measurement. We request information regarding amending the rule so that it will be able to account for the measurement of digital television signals, such as where to tune and the proper setting for the i.f. bandwidth of the measurement equipment. The Commission will also consider a procedure for measuring signal intensity indoors along with criteria that would determine when an indoor or outdoor measurement should be performed.

5. The Commission further asks if a standard that does not require the presence of a signal of a certain strength to ensure that a household can receive a high-quality picture using antennas of reasonable cost and ease of installation should be developed. Suggested standards should include sufficient information as to how the standard will insure that reception of service will occur and how the standard may be affected by currently available or soon-to-be available reception equipment.

6. The Commission also seeks comment on whether to develop a predictive methodology for determining whether a household is unserved by an adequate digital signal under 17 U.S.C. 119(d)(10). We seek to determine if the modified Longley-Rice model, with appropriate modifications, would accurately predict digital signal coverage at a specific location, or whether there is some other predictive model that would be more appropriate for this purpose. Commenting parties are asked to propose specific modifications to the model and provide detailed analysis as to how the changes will result in a more accurate model when accounting for environmental features and possible signal interference. If an alternative model is suggested, we ask that it include specific technical information concerning its effectiveness in predicting DTV service at a location as well as information that will enable its use by the Commission.

7. We request information as to whether there is a wide variation in the ability of reasonably priced consumer digital television sets to receive over-the-air signals, such that at a given signal strength some may be able to display high-quality pictures while others cannot, whether such variation is related to the price of the television set, and whether such variation should be factored into setting a standard for determining if a household is unserved by an adequate digital signal. Commenting parties should provide information regarding the sensitivity of various receivers and their interference rejection capability. We ask that these comments be accompanied by price data and analysis regarding the correlation between performance and price. We also ask if there are specific parameters that we should measure when performing our own analysis on the DTV receiving equipment. We ask if significant differences in digital receiver performance quality exist, should those differences be accounted for when determining whether a household is unserved by an adequate digital signal. If the Commenting parties recommend that digital receiver quality be a factor we ask that the parties provide detailed analysis and explain how receiver quality can be used in ascertaining whether a household is unserved. Finally, we ask how limitations in receivers can be mitigated through the use of higher performance antennas or auxiliary devices.

8. Finally, we seek comment on whether to account for factors such as building loss, external interference sources, or undesired signals from both digital television and analog television stations using either the same or adjacent channels in nearby markets, foliage, and man-made clutter. In particular, interference from both co-channel and adjacent channel TV transmitters could cause interference to the desired signal and we ask for comment pertaining to this type of interference. We request comment on how well digital TV receivers and satellite set-top-boxes with built-in off-air receivers perform when contending with interference and should performance specifications be taken into account by the Commission in order to determine when a household is unserved by an adequate digital signal? Finally, what additional factors, if any, should be included when determining the availability of a DTV signal at an individual location?

Federal Communications Commission.
Marlene H. Dortch,
Secretary.

[FR Doc. 05-9823 Filed 5-17-05; 8:45 am]

BILLING CODE 6712-01-P